DEPARTMENT OF TRANSPORTATION

Federal Highway Administration

Environmental Impact Statement; Jefferson Parish, LA

AGENCY: Federal Highway Administration (FHWA), DOT.

ACTION: Withdrawal of Notice of Intent.

SUMMARY: The FHWA is issuing this notice to advise the public that the Notice of Intent to prepare an environmental impact statement (EIS) for the proposed highway project in Jefferson Parish, Louisiana has been withdrawn. The Louisiana DOTD is not planning to pursue the project as proposed.

FOR FURTHER INFORMATION CONTACT: Mr. William C. Farr, Program Operations Manager, Federal Highway Administration, 5304 Flanders Drive, Suite A, Baton Rouge, Louisiana 70808 or Ms. Michele Deshotels, Environmental Impact Program Manager, Louisiana Department of Transportation and Development, Section 28, P.O. Box 94245, Baton Rouge, Louisiana 70804-9245, Telephone: (225) 929-9190.

SUPPLEMENTARY INFORMATION: A Notice of Intent was published (Federal Register, Vol. 47, No. 229) to prepare and environmental impact statement (EIS) on a proposal to extend LA-3134 from its terminus at the south end of Wagner's Ferry Bridge southwesterly through the town of Jean Lafitte crossing Bayou Barataria and terminating at LA-301 in Barataria. The proposed facility would have been a two-lane highway between 2.4 miles and 3.6 miles in length, depending upon the location. The proposed highway would have provided improved access to and from Jean Lafitte and Barataria.

Alternatives considered were: (1) No build; (2) a controlled access facility on structure; (3) a controlled access facility on embankment; and (4) upgrading LA-45 and a new bridge across Bayou Barataria between Jean Lafitte and Barataria.

There were no plans to hold a formal scoping meeting for the proposed actions. A public hearing would have been held at a convenient time and place for persons in the project area after the Draft Environmental Impact Statement had been circulated. The hearing would have been announced through the local news media.

Comments and suggestions concerning the proposed action and the EIS were invited to be directed to the FHWA or Louisiana Department of Transportation and Development.

(Catalog of Federal Domestic Assistance Program Number 20.205, Highway Research, Planning and Construction The regulations implementing Executive Order 12372 regarding intergovernmental consultation on Federal programs and activities apply to this program.)

Issued on: January 5, 2000.
William A. Sussmann,
Division Administrator, FHWA, Baton Rouge, Louisiana.

[FR Doc. 00-1110 Filed 1-14-00; 8:45 am]

BILLING CODE 4910-22-M